ENVIRONMENTAL PROTECTION AGENCY

40 CFR Part 81

[EPA-R03-OAR-2006-0353; EPA-R03-OAR-2007-0476; EPA-R03-OAR-2005-VA-0007; EPA-R03-OAR-2005-VA-0013; EPA-R03-OAR-2005-0548; EPA-R03-OAR-2006-0485; EPA-R03-OAR-2006-0682; EPA-R03-OAR-2006-0692; EPA-R03-OAR-2006-0817; FRL-8500-8]

Approval and Promulgation of Air Quality Implementation Plans; Maryland, Pennsylvania, Virginia, West Virginia; Redesignation of 8-Hour Ozone Nonattainment Areas to Attainment and Approval of the Areas' Maintenance Plans and 2002 Base-Year Inventories; Correction

AGENCY: Environmental Protection Agency (EPA).

ACTION: Final rule; correcting amendment.

SUMMARY: This document corrects an error in the part 81 tables of a series of final rules pertaining to EPA's approval of ozone redesignation requests for Kent and Queen Anne, Erie, Fredericksburg, Shenandoah, Charleston, Parkersburg-Marietta, Steubenville-Weirton, Wheeling, and Huntington-Ashland 8-hour ozone nonattainment areas. The requests to redesignate the areas from nonattainment to attainment were submitted by Maryland, Pennsylvania, Virginia, and West Virginia.

EFFECTIVE DATE: December 5, 2007.

FOR FURTHER INFORMATION CONTACT: Irene Shandruk, (215) 814-2166 or by e-mail at shandruk.irene@epa.gov.

SUPPLEMENTARY INFORMATION: Throughout this document wherever “we” or “our” are used we mean EPA. The following table is a summary of the dates on which we published final rulemaking documents announcing our approval of three simultaneous actions for nine areas: (1) Redesignation from nonattainment to attainment of 8-hour ozone national ambient air quality standard (NAAQS); (2) approval of the areas' maintenance plans, and (3) approval of the emissions 2002 base-year inventories and mobile budgets. The effective dates for the three actions were announced in the DATES section as being 30 days from the date of publication.

State | Nonattainment area | Date of publication | FRN | Effective date
Maryland | Kent & Queen Anne's | December 22, 2006 | 71 FR 76920 | January 22, 2007.
Pennsylvania | Erie | October 9, 2007 | 72 FR 57207 | November 8, 2007.
Virginia | Fredericksburg | December 23, 2005 | 70 FR 76165 | January 23, 2006.
| Shenandoah | January 3, 2006 | 71 FR 24 | February 2, 2006.
West Virginia | Charleston | July 11, 2006 | 71 FR 39001 | August 10, 2006.
| Huntington-Ashland | September 15, 2006 | 71 FR 54421 | October 16, 2006.
| Parkersburg-Marietta | May 8, 2007 | 72 FR 25967 | June 7, 2007.
| Steubenville-Weirton | May 14, 2007 | 72 FR 27060 | June 13, 2007.
| Wheeling | May 15, 2007 | 72 FR 27247 | June 14, 2007.

The corresponding effective dates in the 40 CFR part 81 tables for each nonattainment area should have also been 30 days from date of publication, but were inadvertently established as the dates of publication. This action corrects the erroneous effective date in part 81 for each of the above listed areas.

In the rule documents published in the Federal Register on the effective dates given in the above table, the part 81 tables for the nonattainment areas listed in the above table are corrected by revising the entry for the effective designation date for these areas from the date of publications given in the above table to the effective dates given in the above table (for example, for Kent & Queen Anne, corrected from December 23, 2006 to January 22, 2007).

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because this rule is not substantive and imposes no regulatory requirements, but merely corrects a citation in a previous action. Thus, notice and public procedure are unnecessary. We find that this constitutes good cause under 5 U.S.C. 553(b)(B).

Statutory and Executive Order Reviews

Under Executive Order (E.O.) 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it approves a state rule implementing a Federal standard.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of December 5, 2007. EPA will submit a report containing this rule and other required information to the U.S. Senate, the U.S. House of Representatives, and the Comptroller General of the United States prior to publication of the rule in the Federal Register. These corrections to the tables in 40 CFR 81.321, 81.339, 81.347 and 81.349 for Maryland, Pennsylvania, Virginia and West Virginia are not “major rules” as defined by 5 U.S.C. 804(2).

List of Subjects in 40 CFR Part 81

Air pollution control, National parks, Wilderness areas.

Dated: November 20, 2007.
Donald S. Welsh,
Regional Administrator, Region III.

40 CFR part 81 is amended as follows:

PART 81—[AMENDED]

1. The authority citation for Part 81 continues to read as follows:

Authority: 42 U.S.C. 7401 et seq.

2. In § 81.321, the table entitled “Maryland—Ozone (8-Hour Standard)” is amended by revising the entry for Kent and Queen Anne's Area to read as follows:

§ 81.321 Maryland.

* * * * *

Maryland—Ozone (8-Hour Standard)
Designated Area | Designation ᵃ: Date ¹ | Designation ᵃ: Type | Category/Classification: Date ¹ | Category/Classification: Type
* * * * * * *
Kent and Queen Anne's Area
Kent County | January 22, 2007 | Attainment
Queen Anne's County | January 22, 2007 | Attainment
* * * * * * *
ᵃ Includes Indian County located in each county or area, except otherwise noted.
¹ This date is June 15, 2004, unless otherwise noted.

* * * * *

3. In § 81.339, the table entitled “Pennsylvania-Ozone (8-Hour Standard)” is amended by revising the entry for Erie, PA: Erie County to read as follows:

§ 81.339 Pennsylvania.

* * * * *

Pennsylvania—Ozone (8-Hour Standard)
Designated Area | Designation ᵃ: Date ¹ | Designation ᵃ: Type | Category/Classification: Date ¹ | Category/Classification: Type
* * * * * * *
Erie, PA: Erie County | 11/8/2007 | Attainment
* * * * * * *
ᵃ Includes Indian County located in each county or area, except otherwise noted.
¹ This date is June 15, 2004, unless otherwise noted.

* * * * *

4. In § 81.347, the table entitled “Virginia—Ozone (8-Hour Standard)” is amended by revising the entries for Fredericksburg, VA and Madison and Page Cos. (Shenandoah NP), VA Area to read as follows:

§ 81.347 Virginia.

* * * * *

Virginia—Ozone (8-Hour Standard)
Designated Area | Designation ᵃ: Date ¹ | Designation ᵃ: Type | Category/Classification: Date ¹ | Category/Classification: Type
* * * * * * *
Fredericksburg, VA:
City of Fredericksburg | January 23, 2006 | Attainment
Spotsylvania County | January 23, 2006 | Attainment
Stafford County | January 23, 2006 | Attainment
Madison and Page Cos. (Shenandoah NP), VA area:
Madison County (part) | February 2, 2006 | Attainment
Page County (part) | February 2, 2006 | Attainment
* * * * * * *
ᵃ Includes Indian County located in each county or area, except otherwise noted.
¹ This date is June 15, 2004, unless otherwise noted.

* * * * *

5. In § 81.349, the table entitled “West Virginia—Ozone (8-Hour Standard)” is amended by revising the entries for Charleston, WV; Huntington-Ashland, WV-KY; Parkersburg-Marietta WV-OH Area; Wheeling, WV-OH Area; and Steubenville-Weirton, OH-WV Area to read as follows:

§ 81.349 West Virginia.

* * * * *

West Virginia—Ozone (8-Hour Standard)
Designated Area | Designation ᵃ: Date ¹ | Designation ᵃ: Type | Category/Classification: Date ¹ | Category/Classification: Type
* * * * * * *
Charleston, WV:
Kanawha County | August 10, 2006 | Attainment
Putnam County | August 10, 2006 | Attainment
Huntington-Ashland, WV-KY
Cabell County | October 16, 2006 | Attainment
Wayne County | October 16, 2006 | Attainment
Parksburg-Marietta, WV-OH Area:
Wood County | June 7, 2007 | Attainment
Wheeling, WV-OH area:
Marshall County | June 14, 2007 | Attainment
Ohio County | June 14, 2007 | Attainment
Steubenville-Weirton, OH-WV area:
Brooke County | June 13, 2007 | Attainment
Hancock County | June 13, 2007 | Attainment
* * * * * * *
ᵃ Includes Indian County located in each county or area, except otherwise noted.
¹ This date is June 15, 2004, unless otherwise noted.

* * * * *

[FR Doc. E7-23498 Filed 12-4-07; 8:45 am]

BILLING CODE 6560-50-P